DEPARTMENT OF COMMERCE

Technology Administration

National Medal of Technology Nomination Evaluation Committee, Notice of Charter Renewal; Renewal of the President's National Medal of Technology Nomination Evaluation Committee Charter

AGENCY: Technology Administration, Department of Commerce.

ACTION: Notice of the renewal of the National Medal of Technology Nomination Evaluation Committee Charter.

SUMMARY: Please note that the Secretary of Commerce, with the concurrence of the General Services Administration, has renewed the Charter for the National Medal of Technology Nomination Evaluation Committee on April 12, 2004. It has been determined that the Committee is necessary and in the public interest.

FOR FURTHER INFORMATION CONTACT: Mildred Porter, Director and Designated Federal Official, National Medal of Technology, Technology Administration, U.S. Department of Commerce, 1401 Constitution Avenue, NW., Herbert C. Hoover Building, Room 4843, Washington, DC 20230, phone: 202/482-5572; e-mail: NMT@technology.gov.

Dated: May 3, 2004.
Mildred Porter,
Director and Designated Federal Official, National Medal of Technology.

[FR Doc. 04-10712 Filed 5-11-04; 8:45 am]

BILLING CODE 3510-18-P